FEDERAL COMMUNICATIONS COMMISSION

[Report No. AUC-06-65-C (Auction No. 65); DA 06-376]

Auction of 800 MHz Air-Ground Radiotelephone Service Licenses; Comment Sought on Additional Payment Component of Default Payments for Auction No. 65

AGENCY: Federal Communications Commission.

ACTION: Notice.

SUMMARY: This document seeks comments on additional payment component of default payments for the auction of new nationwide commercial Air-Ground Radiotelephone Service licenses in the 800 MHz band (Auction No. 65), scheduled to commence on May 10, 2006.

DATES: Comments are due on or before March 7, 2006 and reply comments are due on or before March 14, 2006.

ADDRESSES: Comments and reply comments must be sent by electronic mail to the following address: auctions65@fcc.gov.

FOR FURTHER INFORMATION CONTACT: For legal questions: Brian Carter at (202) 418-0660. For general auction questions: Jeff Crooks at (202) 418-0660. For service rules questions: Erin McGrath or Richard Arsenault (legal); or Jay Jackson or Moslem Sawez (technical) at (202) 418-0620.

SUPPLEMENTARY INFORMATION: This is a summary of the Supplemental Auction No. 65 Comment Public Notice released on February 21, 2006. The complete text of the Supplemental Auction No. 65 Comment Public Notice, including attachments and related Commission documents is available for public inspection and copying from 8 a.m. to 4:30 p.m. Monday through Thursday or from 8 a.m. to 11:30 p.m. on Friday at the FCC Reference Information Center, Portals II, 445 12th Street, SW., Room CY-A257, Washington, DC 20554. The Supplemental Auction No. 65 Comment Public Notice and related Commission documents may also be purchased from the Commission's duplicating contractor, Best Copy and Printing, Inc. (BCPI), Portals II, 445 12th Street, SW., Room CY-B402, Washington, DC, 20554, telephone 202-488-5300, facsimile 202-488-5563, or you may contact BCPI at its Web site: http://www.BCPIWEB.com. When ordering documents from BCPI please provide the appropriate FCC document number for example, DA 06-376. The Supplemental Auction No. 65 Comment Public Notice and related documents are also available on the Internet at the Commission's Web site: http://wireless.fcc.gov/auctions/65/.

1. On January 10, 2006, in the Auction No. 65 Comment Public Notice, 71 FR 3513, January 23, 2006, the Wireless Telecommunications Bureau (“Bureau”) announced the auction of new nationwide commercial Air-Ground Radiotelephone Service licenses in the 800 MHz band and sought comment on procedures for the auction of these licenses (Auction No. 65). Auction No. 65 is scheduled to commence on May 10, 2006.

2. After the release of the Auction No. 65 Comment Public Notice, the Commission released the CSEA/Part 1 Report and Order, 71 FR 6214, February 7, 2006, in which it modified § 1.2104(g)(2) of its rules. This provision, which is part of the Commission's general competitive bidding rules, governs default payments that must be paid by winning bidders that default on a down payment or final payment obligation or are disqualified after the close of an auction. Under the modified rule, the Commission will, as part of its determination of competitive bidding procedures in advance of a particular auction, establish the amount of the additional payment component of such default payments for that auction. Because § 1.2104(g)(2) was modified after the release of the Auction No. 65 Comment Public Notice, the Bureau did not seek comment therein on the appropriate level of this payment for Auction No. 65, nor did it establish the amount of this payment in the Auction No. 65 Procedures Public Notice released on February 21, 2006. Therefore, as explained below, the Commission seeks comment in this Public Notice on the appropriate level of this payment for Auction No. 65.

3. Section 1.2104(g)(2) provides that if, after the close of an auction, a winning bidder defaults on a down payment or final payment obligation or is disqualified (e.g., fails to submit a timely long-form application), the bidder is liable for a default payment. This payment consists of a deficiency payment, equal to the difference between the amount of the bidder's bid and the amount of the winning bid the next time a license covering the same spectrum is won in an auction, plus an additional payment equal to a percentage of the defaulter's bid or of the subsequent winning bid, whichever is less. Until recently this additional payment for non-combinatorial auctions has been set at 3 percent of the defaulter's bid or of the subsequent winning bid, whichever is less.

4. Pursuant to the modification of § 1.2104(g)(2) adopted in the CSEA/Part 1 Report and Order, the 3 percent limit on the additional default payment for non-combinatorial auctions has been increased to 20 percent. Thus, the Commission will, for each non-combinatorial auction, establish an additional default payment from 3 percent up to a maximum of 20 percent. As the Commission has indicated, the level of this payment in each case will be based on the nature of the service and the inventory of the licenses being offered.

5. For Auction No. 65, the Bureau proposes to establish an additional default payment of 20 percent. In this auction, licenses in three band plans will be available, but the only licenses that will be awarded will be those that comprise the band plan that receives the highest aggregate bid. Consequently, a bid on a single license may determine not only the winner of that license but also the winning band plan, and thus affect the ability of other bidders to win other licenses in the auction. By contrast, a bid on a license in an auction using the Commission's standard simultaneous multiple round auction format (“SMR”) may determine only the winner of that license. Because of the particular interdependence among bids in Auction No. 65 and the potential effects of one winning bidder's default on bidders for other licenses, the Commission believes that the detrimental effects of a default may be significantly greater than in a standard SMR auction. Accordingly, the Commission proposes a higher additional default payment in order to deter such defaults. The Commission seeks comment on this proposal.

6. Comments are due on or before March 7, 2006, and reply comments are due on or before March 14, 2006. All filings must be addressed to the Commission's Secretary Attn: WTB/ASAD, Office of the Secretary, Federal Communications Commission. Parties who file comments by paper must file an original and four copies of each filing. U.S. Postal Service first-class, Express, and Priority mail should be addressed to 445 12th Street, SW., Washington, DC 20554. Filings can be sent by hand or messenger delivery, by commercial overnight courier, or by first-class or overnight U.S. Postal Service mail. The Bureau also requires that all comments and reply comments be filed electronically to the following address: auction65@fcc.gov. The electronic mail containing the comments or reply comments must include a subject or caption referring to “Auction No. 65 Comments” and the name of the commenting party. The Bureau requests that parties format any attachments to electronic mail as Adobe® Acrobat® (pdf) or Microsoft® Word documents. Copies of comments and reply comments will be available for public inspection between 8 a.m. and 4:30 p.m. eastern time (e.t.) Monday through Thursday or 8 a.m. to 11:30 a.m. e.t. on Fridays in the FCC Reference Information Center, Room CY-A257, 445 12th Street, SW., Washington, DC 20554, and will also be posted on the Web page for Auction No. 65 at http://wireless.fcc.gov/auctions/65/.

7. This proceeding has been designated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in § 1.1206(b) of the Commission's rules.

Federal Communications Commission.
Gary D. Michaels,
Deputy Chief, Auctions and Spectrum Access Division, WTB.

[FR Doc. 06-1836 Filed 2-27-06; 8:45 am]

BILLING CODE 6712-01-P